DEPARTMENT OF EDUCATION

President's Board of Advisors on Historically Black Colleges and Universities

AGENCY: U.S. Department of Education.

ACTION: Notice; Advisory Committee Meeting Cancellation.

SUMMARY: The Department of Education gives notice of the cancellation of the meeting of the President's Board of Advisors on Historically Black Colleges and Universities scheduled for March 6, 2013, and announced in the Federal Register on February 20, 2013, in Vol. 78 No. 34.

The meeting will be rescheduled for a date to be announced in the future.

FOR FURTHER INFORMATION CONTACT: John P. Brown, Designated Federal Official, President's Board of Advisors on Historically Black Colleges and Universities, U.S. Department of Education, 400 Maryland Avenue SW., Washington, DC 20202. Email john.brown@ed.gov: Telephone: (202) 453-5645.

Martha Kanter,
Under Secretary, U.S. Department of Education.

[FR Doc. 2013-05001 Filed 3-4-13; 8:45 am]

BILLING CODE 4000-01-P